DEPARTMENT OF TRANSPORTATION

National Highway Traffic Safety Administration

[US DOT Docket No. NHTSA-2013-0056]

Reports, Forms and Record Keeping Requirements, Agency Information Collection Activity Under OMB Review, OMB Control Number 2127—NEW

AGENCY: National Highway Traffic Safety Administration, U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice with a 60-day comment period was published on December 2, 2009 [74 FR 63225] in conjunction with a notice of proposed rulemaking that would establish a new Federal Motor Vehicle Safety Standard (FMVSS) No. 226 for which the collection of information would be needed. No comments were received on the ICR.

This document describes the collection of information for which NHTSA intends to seek OMB approval. The collection of information described is the “Ejection Mitigation Phase in Reporting Requirements—Part 585.” (OMB Control Number: 2127-XXXX)

DATES: Comments must be submitted on or before July 18, 2013.

ADDRESSES: Send comments, within 30 days, to the Office of Information and Regulatory Affairs, Office of Management and Budget, 725—17th Street NW., Washington, DC 20503, Attention NHTSA Desk Officer.

FOR FURTHER INFORMATION CONTACT: Mr. Louis N. Molino at U.S. Department of Transportation, NHTSA, 1200 New Jersey Avenue SE., West Building Room W43-419, NVS-112, Washington, DC 20590. Mr. Molino's telephone number is (202) 366-1740 and fax number is (202) 493-2990.

SUPPLEMENTARY INFORMATION:

National Highway Traffic Safety Administration

Title: Ejection Mitigation Phase in Reporting Requirements—Part 585.

OMB Control Number: 2127-XXXX.

Type of Request: New collection.

Abstract: 49 U.S.C. 30111 authorizes the issuance of Federal motor vehicle safety standards (FMVSSs) and regulations. The agency, in prescribing an FMVSS or regulations, considers available relevant motor vehicle safety data, and consults with other agencies, as it deems appropriate. Further, the statute mandates that in issuing any FMVSS or regulation, the agency considers whether the standard or regulation is “reasonable, practicable and appropriate for the particular type of motor vehicle or item of motor vehicle equipment for which it is prescribed,” and whether such a standard will contribute to carrying out the purpose of the Act.

The Secretary is authorized to invoke such rules and regulations, as deemed necessary to carry out these requirements. Using this authority, on January 19, 2011, the agency published a final rule (76 FR 3212) establishing FMVSS No. 226, “Ejection mitigation.” The final rule contained a collection of information because of the proposed phase-in reporting requirements. The collection of information requires manufacturers of passenger cars and of trucks, buses and multi-purpose passenger vehicles (MPVs) with a GVWR of 4,536 kg (10,000 lb) or less, to annually submit a report, and maintain records related to the report, concerning the number of such vehicles that meet the ejection mitigation requirements of this FMVSS. The phase-in of the test requirements would be completed on September 1, 2017, at which time, all affected vehicles are required to meet the new requirements. The purpose of the reporting requirements is to aid the agency in determining whether a manufacturer has complied with the ejection mitigation requirements during the phase-in of those requirements.

Affected Public: Businesses.

Estimated Total Annual Burden: 1,260 hours.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A comment to OMB is most effective if OMB receives it within 30 days of publication.

Issued on: June 13, 2013.
Lori Summers,
Acting Associate Administrator for Rulemaking.

[FR Doc. 2013-14443 Filed 6-17-13; 8:45 am]

BILLING CODE 4910-59-P